OFFICE OF MANAGEMENT AND BUDGET

Audits of States, Local Governments, and Non-Profit Organizations; Circular A-133 Compliance Supplement

AGENCY: Executive Office of the President, Office of Management and Budget.

ACTION: Notice of availability of the 2001 Circular A-133 Compliance Supplement.

SUMMARY: On April 4, 2000 (65 FR 17684), the Office of Management and Budget (OMB) issued a notice of availability of the 2000 Circular A-133 Compliance Supplement. The notice also offered interested parties an opportunity to comment on the 2000 Circular A-133 Compliance Supplement. The 2001 Supplement has been updated to add 16 additional programs, updated for program changes, and makes technical corrections. A list of changes to the 2001 Supplement can be found at Appendix 5 of the supplement. Due to its length, the 2001 Supplement is not included in this Notice. See ADDRESSES for information about how to obtain a copy. OMB intends to annually review, revise, and/or update this supplement. This notice also offers interested parties an opportunity to comment on the 2001 Supplement.

DATES: The 2001 Supplement will apply to audits of fiscal years beginning after June 30, 2000 and supersedes the 2000 Supplement. All comments on the 2001 Supplement must be in writing and received by October 31, 2001. Late comments will be considered to the extent practicable.

ADDRESSES: Copies of the 2001 Supplement may be purchased at any Government Printing Office (GPO) bookstore (stock numbers: 041-001-00562-5 (paper) and 041-001-00563-3 (CD-ROM)). The main GPO bookstore is located at 710 North Capitol Street, NW, Washington, DC 20401, (202) 512-0132. A copy may also be obtained under the Grants Management heading from the OMB home page on the Internet which is located at http://www.whitehouse.gov/OMB.

Comments on the 2001 Supplement should be mailed to the Office of Management and Budget, Office of Federal Financial Management, Financial Standards, Reporting and Management Integrity Branch, Room 6025, New Executive Office Building, Washington, DC 20503. Where possible, comments should reference the applicable page numbers. Electronic mail comments may be submitted to tramsey@omb.eop.gov. Please include the full body of the electronic mail comments in the text of the message and not as an attachment. Please include the name, title, organization, postal address, telephone number, and E-mail address of the sender in the text of the message.

FOR FURTHER INFORMATION CONTACT: Recipients should contact their cognizant or oversight agency for audit, or Federal awarding agency, as may be appropriate under the circumstances. Subrecipients should contact their pass-through entity. Federal agencies should contact Terrill W. Ramsey, Office of Management and Budget, Office of Federal Financial Management, Financial Standards, Reporting and Management Integrity Branch, telephone (202) 395-3993.

SUPPLEMENTARY INFORMATION: The Office of Management and Budget (OMB) received 12 comment letters on the 2000 Supplement. Ten comment letters related to a single program, Catalog of Federal Domestic Assistance (CFDA) number 93.210 titled “Tribal Self-Governance Demonstration Program: Planning and Negotiation Cooperative Agreements and IHS Compacts.” As a result of these comments, clarifications were made to the description of the compliance requirements for “B. Allowable Costs/Cost Principles,” “E. Eligibility for Individuals,” and “J. Program Income;” and in accordance with a statutory change, “N.1 Special Tests and Provisions” was deleted. Consultation was made with representatives of the commenters and the Department of Health and Human Services in making these changes.

The other two comment letters were considered and changes were made where appropriate.

Sean O'Keefe,
Deputy Director.

[FR Doc. 01-8609 Filed 4-6-01; 8:45 am]

BILLING CODE 3110-01-P